DEPARTMENT OF THE INTERIOR

Bureau of Land Management

[LLOROR957000-L62510000-PM000: HAG10-0222]

Filing of Plats of Survey: Oregon/Washington

AGENCY: Bureau of Land Management, Interior.

ACTION: Notice.

SUMMARY: The plats of survey of the following described lands are scheduled to be officially filed in the Bureau of Land Management Oregon/Washington State Office, Portland, Oregon, 30 days from the date of this publication.

Willamette Meridian

Oregon

T. 14 S., R. 7 W., accepted March 9, 2010.

T. 26 S., R. 7 W., accepted March 9, 2010.

T. 22 S., R. 10 E., accepted March 22, 2010.

T. 31 S., R. 14 W., accepted March 22, 2010.

T. 13 S., R. 11 E., accepted March 24, 2010.

T. 21 S., R. 8 W., accepted April 2, 2010.

T. 30 S., R. 10 W., accepted April 2, 2010.

T. 31 S., R. 13 W., accepted April 2, 2010.

T. 21 S., R. 8 W., accepted April 5, 2010.

T. 36 S., R. 5 W., accepted April 5, 2010.

T. 30 S., R. 3 W., accepted April 5, 2010.

Washington

T. 28 N., R. 13 W., accepted April 2, 2010.

T. 38 N., R. 38 E., accepted April 5, 2010.

ADDRESSES: A copy of the plats may be obtained from the Land Office at the Oregon/Washington State Office, Bureau of Land Management, 333 SW. 1st Avenue, Portland, Oregon 97204, upon required payment. A person or party who wishes to protest against a survey must file a notice that they wish to protest (at the above address) with the Oregon/Washington State Director, Bureau of Land Management, Portland, Oregon.

FOR FURTHER INFORMATION CONTACT: Chief, Branch of Geographic Sciences, Bureau of Land Management, 333 SW. 1st Avenue, Portland, Oregon 97204.

Cathie Jensen,
Branch of Land, Mineral, and Energy Resources.

[FR Doc. 2010-9518 Filed 4-22-10; 8:45 am]

BILLING CODE 4310-33-P